DEPARTMENT OF HOMELAND SECURITY

Federal Emergency Management Agency

[Docket ID FEMA-2023-0002; Internal Agency Docket No. FEMA-B-2376]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Colorado:
Adams | City of Aurora (22-08-0618P). | The Honorable Mike Coffman, Mayor, City of Aurora, 15151 East Alameda Parkway, Aurora, CO 80012. | Public Works Department, 15151 East Alameda Parkway, Suite 3200, Aurora, CO 80012. | https://msc.fema.gov/portal/advanceSearch. | Nov. 24, 2023 | 080002
Adams | Unincorporated areas of Adams County, (22-08-0618P). | Steve O'Dorisio, Chair, Adams County Board of Commissioners, 4430 South Adams County Parkway, Brighton, CO 80601. | Adams County Community and Economic Development, Department, 4430 South Adams County Parkway, Brighton, CO 80601. | https://msc.fema.gov/portal/advanceSearch. | Nov. 24, 202 | 080001
Broomfield | City and County of Broomfield (22-08-0513P). | The Honorable Guyleen Castriotta, Mayor, City and County of Broomfield, 1 DesCombes Drive, Broomfield, CO 80020. | Engineering Department, 1 DesCombes Drive, Broomfield, CO 80020. | https://msc.fema.gov/portal/advanceSearch. | Jan. 2, 2024 | 085073
Douglas | Town of Castle Rock, (22-08-0671P). | The Honorable Jason Gray, Mayor, Town of Castle Rock, 100 North Wilcox Street, Castle Rock, CO 80104. | Water Department, 175 Kellogg Court, Castle Rock, CO 80194. | https://msc.fema.gov/portal/advanceSearch. | Nov. 13, 2023 | 080050
Douglas | Unincorporated areas of Douglas County, (22-08-0671P). | Abe Laydon, Chair, Douglas County Board of Commissioners, 100 3rd Street, Castle Rock, CO 80104. | Department of Public Works/Engineering, 100 3rd Street, Castle Rock, CO 80104. | https://msc.fema.gov/portal/advanceSearch. | Nov. 13, 2023 | 080049
Jefferson | City of Golden (22-08-0756P). | The Honorable Laura Weinberg, Mayor, City of Golden, 911 10th Street, Golden, CO 80401. | Public Works Department, 1445 10th Street, Golden, CO 80401. | https://msc.fema.gov/portal/advanceSearch. | Nov. 24, 2023 | 080090
Jefferson | Unincorporated areas of Jefferson County, (22-08-0610P). | Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Dec. 1, 2023 | 080087
Jefferson | Unincorporated areas of Jefferson County, (22-08-0756P). | Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Nov. 24, 2023 | 080087
Connecticut: Hartford | City of New Britain, (22-01-1075P). | The Honorable Erin E. Stewart, Mayor, City of New Britain, 27 West Main Street, New Britain, CT 06051. | Public Works Department, 27 West Main Street, Room 501, New Britain, CT 06051. | https://msc.fema.gov/portal/advanceSearch. | Dec. 4, 2023 | 090032
Delaware: New Castle | Unincorporated areas of New Castle County, (23-03-0218P). | Matthew Meyer, New Castle County Executive, 87 Reads Way, New Castle, DE 19720. | New Castle County Land Use Department, 87 Reads Way, New Castle, DE 19720. | https://msc.fema.gov/portal/advanceSearch. | Dec. 28, 2023 | 105085
Florida:
Broward | City of Deerfield Beach, (23-04-4228P). | The Honorable Bill Ganz, Mayor, City of Deerfield Beach, 150 Northeast 2nd Avenue, Deerfield Beach, FL 33441. | Environmental Services Department, 200 Goolsby Boulevard, Deerfield Beach, FL 33442. | https://msc.fema.gov/portal/advanceSearch. | Nov. 30, 2023 | 125101
Lee | City of Bonita Springs, (23-04-1949P). | The Honorable Rick Steinmeyer, Mayor, City of Bonita Springs, 9101 Bonita Beach Road, Bonita Springs, FL 34135. | Community Development Department, 9220 Bonita Beach Road, Suite 111, Bonita Springs, FL 34135. | https://msc.fema.gov/portal/advanceSearch. | Nov. 24, 2023 | 120680
Miami-Dade | City of Miami (23-04-1745P). | The Honorable Francis Suarez, Mayor, City of Miami, 444 Southwest 2nd Avenue, Miami, FL 33130. | Building Department 444 Southwest 2nd Avenue, Miami, FL 33130. | https://msc.fema.gov/portal/advanceSearch. | Jan. 3, 2024 | 120650
Monroe | Village of Islamorada, (23-04-4107P). | The Honorable Joseph Buddy Pinder III, Mayor, Village of Islamorada, 86800 Overseas Highway, Islamorada, FL 33036. | Building Department, 86800 Overseas Highway, Islamorada, FL 33036. | https://msc.fema.gov/portal/advanceSearch. | Dec. 1, 2023 | 120424
Monroe | Village of Islamorada, (23-04-4211P). | The Honorable Joseph Buddy Pinder III, Mayor, Village of Islamorada, 86800 Overseas Highway, Islamorada, FL 33036. | Building Department, 86800 Overseas Highway, Islamorada, FL 33036. | https://msc.fema.gov/portal/advanceSearch. | Dec. 11, 2023 | 120424
Palm Beach | City of Westlake, (23-04-0749P). | The Honorable JohnPaul O'Connor, Mayor, City of Westlake, 4001 Seminole Pratt Whitney Road, Westlake, FL 33470. | City Hall, 4001 Seminole Pratt Whitney Road, Westlake, FL 33470. | https://msc.fema.gov/portal/advanceSearch. | Jan. 8, 2024 | 120018
Palm Beach | City of West Palm Beach, (22-04-5604P). | The Honorable Keith James, Mayor, City of West Palm Beach, P.O. Box 3366, West Palm Beach, FL 33402. | Building Department, 401 Clematis Street, West Palm Beach, FL 33401. | https://msc.fema.gov/portal/advanceSearch. | Nov. 24, 2023 | 120229
Pasco | Unincorporated areas of Pasco County, (23-04-1176P). | Jack Mariano, Chair, Pasco County Board of Commissioners, 8731 Citizens Drive, New Port Richey, FL 34654. | Pasco County Building Construction Services Department, 8731 Citizens Drive, Suite 230, New Port Richey, FL 34654. | https://msc.fema.gov/portal/advanceSearch. | Jan. 4, 2024 | 120230
Pasco | Unincorporated areas of Pasco County, (23-04-2545P). | Jack Mariano, Chair, Pasco County Board of Commissioners, 8731 Citizens Drive, New Port Richey, FL 34654. | Pasco County Building Construction Services Department, 8731 Citizens Drive, Suite 230, New Port Richey, FL 34654. | https://msc.fema.gov/portal/advanceSearch. | Jan. 4, 2024 | 120230
Pasco | Unincorporated areas of Pasco County, (23-04-2692P). | Jack Mariano, Chair, Pasco County Board of Commissioners, 8731 Citizens Drive, New Port Richey, FL 34654. | Pasco County Building Construction Services Department, 8731 Citizens Drive, Suite 230, New Port Richey, FL 34654. | https://msc.fema.gov/portal/advanceSearch. | Dec. 28, 2023 | 120230
Louisiana: Tangipahoa | Unincorporated areas of Tangipahoa Parish, (23-06-0213P). | Robby Miller, Tangipahoa Parish President, P.O. Box 215, Amite City, LA 70422. | Tangipahoa Parish Government Building, 206 East Mulberry Street, Amite City, LA 70422. | https://msc.fema.gov/portal/advanceSearch. | Nov. 24, 2023 | 220206
Pennsylvania: Blair | Township of Frankstown, (23-03-0118P). | George W. Henry, Jr., Chair, Township of Frankstown Board of Supervisors, 2122 Frankstown Road, Hollidaysburg, PA 16648. | Township Hall, 2122 Frankstown Road, Hollidaysburg, PA 16648. | https://msc.fema.gov/portal/advanceSearch. | Nov. 13, 2023 | 421387
Texas:
Caldwell | Unincorporated areas of Caldwell County, (22-06-2389P). | The Honorable Hoppy Haden, Caldwell County Judge, 110 South Main Street, Room 101, Lockhart, TX 78644. | Caldwell County Main Historic Courthouse, 110 South Main Street, Room 201, Lockhart, TX 78644. | https://msc.fema.gov/portal/advanceSearch. | Dec. 22, 2023 | 480094
Collin | City of Celina (23-06-0639P). | The Honorable Ryan Tubbs, Mayor, City of Celina, 142 North Ohio Street, Celina, TX 75009. | City Hall, 142 North Ohio Street, Celina, TX 75009. | https://msc.fema.gov/portal/advanceSearch. | Jan. 2, 2024 | 480133
Dallas | City of Garland (22-06-0934P). | The Honorable Scott LeMay, Mayor, City of Garland, 200 North 5th Street, Garland, TX 75040. | Engineering Department, 800 Main Street, 3rd Floor, Garland, TX 75040. | https://msc.fema.gov/portal/advanceSearch. | Dec. 4, 2023 | 485471
Denton | Unincorporated areas of Denton County, (23-06-0647P). | The Honorable Andy Eads, Denton County Judge, 1 Courthouse Drive, Suite 3100, Denton, TX 76208. | Denton County Hall, 1 Courthouse Drive, Denton, TX 76208. | https://msc.fema.gov/portal/advanceSearch. | Nov. 17, 2023 | 480774
Grayson | City of Tioga, (23-06-0305P). | The Honorable Craig Jezek, Mayor, City of Tioga, P.O. Box 206, Tioga, TX 76271. | City Hall, 600 Main Street, Tioga, TX 76271. | https://msc.fema.gov/portal/advanceSearch. | Jan. 16, 2024 | 481624
Harris | Unincorporated areas of Harris County, (22-06-2777P). | The Honorable Lina Hidalgo, Harris County Judge, 1001 Preston Street, Suite 911, Houston, TX 77002. | Harris County Engineering Department, 1001 Preston Street, 7th Floor, Houston, TX 77002. | https://msc.fema.gov/portal/advanceSearch. | Nov. 20, 2023 | 480287
Medina | Unincorporated areas of Medina County, (23-06-0919P). | The Honorable Keith Lutz, Medina County Judge, 1300 Avenue M, Room 250, Hondo, TX 78861. | Medina County Old Jail Building, 1502 Avenue K, Hondo, TX 78861. | https://msc.fema.gov/portal/advanceSearch. | Jan. 12, 2024 | 480472
Tarrant | City of Fort Worth, (23-06-0280P). | The Honorable Mattie Parker, Mayor, City of Fort Worth, 200 Texas Street, Fort Worth, TX 76102. | T/PW Engineering Vault, 200 Texas Street, Fort Worth, TX 76102. | https://msc.fema.gov/portal/advanceSearch. | Dec. 1, 2023 | 480596
Waller | Unincorporated areas of Waller County, (22-06-2777P). | The Honorable Carbett “Trey” J. Duhon, III, Waller County Judge, 836 Austin Street, Suite 203, Hempstead, TX 77445. | Waller County Engineering Department, 775 Business Highway 290 East, Hempstead, TX 77445. | https://msc.fema.gov/portal/advanceSearch. | Nov. 20, 2023 | 480640
Utah:
Davis | City of Farmington, (23-08-0529P). | The Honorable Brett Anderson, Mayor, City of Farmington, 160 South Main Street, Farmington, UT 84025. | City Hall, 160 South Main Street, Farmington, UT 84025. | https://msc.fema.gov/portal/advanceSearch. | Nov. 20, 2023 | 490044
Salt Lake | City of Herriman City, (22-08-0795P). | Nathan Cherpeski, Manager, City of Herriman City, 5355 West Herriman Main Street, Herriman, UT 84096. | City Maps (GIS) Department, 5355 West Herriman Main Street, Herriman, UT 84096. | https://msc.fema.gov/portal/advanceSearch. | Nov. 24, 2023 | 490252
Salt Lake | City of Murray, (22-08-0780P). | The Honorable Brett A. Hales, Mayor, City of Murray, 10 East 4800 South, 3rd Floor, Murray, UT 84107. | Geographic Information Systems Division, 10 East 4800 South, Murray, UT 84107. | https://msc.fema.gov/portal/advanceSearch. | Dec. 14, 2023 | 490103
Washington | Town of Virgin (23-08-0208P). | The Honorable Jean Krause, Mayor, Town of Virgin, P.O. Box 790008, Virgin, UT 84779. | Planning and Zoning Department, 114 South Mill Street, Virgin, UT 84779. | https://msc.fema.gov/portal/advanceSearch. | Nov. 30, 2023 | 490181
Vermont: Chittenden | Town of Essex, (23-01-0198P). | Greg Duggan, Town of Essex Manager, 81 Main Street, Essex Junction, VT 05452. | Town Clerk's Office (Land Records), 81 Main Street, Essex Junction, VT 05452. | https://msc.fema.gov/portal/advanceSearch. | Nov. 24, 2023 | 500034

[FR Doc. 2023-22592 Filed 10-11-23; 8:45 am]

BILLING CODE 9110-12-P